SURFACE TRANSPORTATION BOARD

[Docket No. FD 36324]

Georgia Southern Railway Co.—Lease and Operation Exemption Containing Interchange Commitments—The South Western Rail Road Company, Central of Georgia Railroad Company, and Norfolk Southern Railway Company

Georgia Southern Railway Co. (GASR), a Class III rail carrier, has filed a verified notice of exemption under 49 CFR 1150.41 to continue to lease and operate three rail lines totaling approximately 52.8 miles in length (not inclusive of yard track). GASR will continue to lease: (1) From Norfolk Southern Railway Company (NSR) the Roberta Line, from milepost 95.5-FV, at or near Roberta, to milepost 105.3-FV, at or near Fort Valley, in Peach and Crawford Counties, Ga. (approximately 9.8 miles); (2) from Central of Georgia Railroad Company (CGR), a wholly owned subsidiary of NSR, the Metter Line, from milepost W-57.5, at or near Dover, to milepost W-86.7 at or near Metter, in Candler, Bulloch, and Screven Counties, Ga. (approximately 29.2 miles); and (3) from CGR and the South Western Rail Road Company (SWRR), a subsidiary of CGR, the Perry Line, from milepost N-219.7, at or near Fort Valley to milepost N-232.6, at or near Perry, in Peach and Houston Counties, Ga. (approximately 12.9 miles) (the Lines).¹

¹ On January 27, 2020, GASR filed a supplement to correct the description of the Metter Line.

In 2009, Georgia Midland Railroad, Inc., assigned its lease of the Lines to GASR. See Ga. S. Ry.—Lease & Operation Exemption & Operation Exemption—Certain Lines of Ga. Midland R.R., et al., FD 35322 (STB served Dec. 2, 2009). According to the verified notice, GASR has executed lease renewal agreements with NSR for the Roberta Line, with CGR for the Metter Line, and with CGR and SWRR for the Perry Line, for a period of ten years.

GASR certifies that its projected annual revenues as a result of the proposed transaction will not result in GASR's becoming a Class I or Class II rail carrier and will not exceed $5 million. GASR has disclosed in its verified notice that the lease renewals with CGR and SWRR contain an interchange commitment, in the form of lease credits.² GASR has provided additional information regarding the interchange commitments as required by 49 CFR 1150.43(h).

² Copies of the lease renewal agreements with the interchange commitments were submitted under seal. See 49 CFR 1150.43(h)(1).

The transaction may be consummated on or after February 14, 2020, the effective date of the exemption (30 days after the verified notice of exemption was filed). If the verified notice contains false or misleading information, the exemption is void ab initio. Petitions to revoke the exemption under 49 U.S.C. 10502(d) may be filed at any time. The filing of a petition to revoke will not automatically stay the effectiveness of the exemption. Petitions for stay must be filed by February 7, 2020 (at least seven days before the exemption becomes effective).

All pleadings, referring to Docket No. FD 36324, must be filed with the Surface Transportation Board either via e-filing or in writing addressed to 395 E Street SW, Washington, DC 20423-0001. In addition, a copy of each pleading must be served on GASR's representative, W. Karl Hansen, Stinson LLP, 50 South Sixth Street, Suite 2600, Minneapolis, MN 55402.

According to GASR, this action is categorically excluded from environmental review under 49 CFR 1105.6(c) and from historic preservation reporting requirements under 49 CFR 1105.8(b).

Board decisions and notices are available at www.stb.gov.

Decided: January 28, 2020.
By the Board, Allison C. Davis, Director, Office of Proceedings.
Jeffrey Herzig,
Clearance Clerk.

[FR Doc. 2020-01900 Filed 1-30-20; 8:45 am]

BILLING CODE 4915-01-P